DEPARTMENT OF ENERGY

Federal Energy Regulatory Commission

[Docket Nos. IC10-6-000 and IC10-6Q-000]

Commission Information Collection Activities (FERC Form Nos. 6 and 6-Q); Comment Request; Extensions

January 25, 2010.

AGENCY: Federal Energy Regulatory Commission, DOE.

ACTION: Notice of proposed information collections and request for comments.

SUMMARY: In compliance with the requirements of section 3506(c) (2)(a) of the Paperwork Reduction Act of 1995 (Pub. L. 104-13), the Federal Energy Regulatory Commission (Commission or FERC) is soliciting public comment on the specific aspects of the information collections described below.

DATES: Comments in consideration of the collections of information are due April 5, 2010.

ADDRESSES: Comments may be filed either electronically or in paper format, and should refer to Docket Nos. IC10-6-000 and IC10-6Q-000. For comments that only pertain to one of the collections, specify the appropriate collection and related docket number. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling. Commenters filing electronically should not make a paper filing.

Commenters that are not able to file electronically must send their comments to: Federal Energy Regulatory Commission, Secretary of the Commission, 888 First Street, NE., Washington, DC 20426.

Users interested in receiving automatic notification of activity in Docket Number IC10-6 may do so through eSubscription at http://www.ferc.gov/docs-filing/esubscription.asp. However, due to a system issue, Docket Number IC10-6Q is not available at this time for eSubscription. In addition, all comments and FERC issuances may be viewed, printed or downloaded remotely through FERC's Web site using the “eLibrary” link and searching on Docket Numbers IC10-6 and IC10-6Q. For user assistance, contact FERC Online Support at: ferconlinesupport@ferc.gov, (866) 208-3676 (toll free), or (202) 502-8659 (TTY).

FOR FURTHER INFORMATION CONTACT: Ellen Brown may be reached by telephone at (202) 502-8663, by fax at (202) 273-0873, or by e-mail at ellen.brown@ferc.gov.

SUPPLEMENTARY INFORMATION: For the purpose of publishing this notice and seeking public comment, FERC requests comments on the following information collections:

• FERC Form 6 (“FERC-6”), “Annual Report of Oil Pipeline Companies,” implemented in 18 CFR Sections 357.1, 357.2, and 385.2011; OMB Control No. 1902-0022 and

• FERC Form 6-Q (“FERC-6Q” or “FERC-6-Q”), “Quarterly Financial Report of Oil Pipeline Companies,” implemented in 18 CFR Section 357.4; OMB Control No. 1902-0206.

The associated regulations, information collections, burdens, and OMB clearance numbers will continue to remain separate and distinct.

Under the Interstate Commerce Act (ICA), (49 U.S.C. 1, 20, 54 Stat. 916), the Commission is authorized and empowered to make investigations and to collect and record data to the extent FERC may consider to be necessary or useful for the purpose of carrying out the provisions of the ICA. FERC must ensure just and reasonable rates for transportation of crude oil and petroleum products by pipelines in interstate commerce.

The information collected by FERC Form Nos. 6 and 6-Q are used by the Commission to carry out its responsibilities in implementing the statutory provisions of the ICA, including the authority to prescribe rules and regulations concerning accounts, records and memoranda, as necessary or appropriate. Financial accounting and reporting provides needed information concerning a company's past performance and its future prospects. Without reliable financial statements prepared in accordance with the Commission's Uniform System of Accounts and related regulations, the Commission would be unable to accurately determine the costs that relate to a particular time period, service or line of business.

FERC uses data from the FERC Form Nos. 6 and 6-Q to assist in: (1) Implementation of its financial audits and programs, (2) continuous review of the financial condition of regulated companies, (3) assessment of energy markets, (4) rate proceedings and economic analyses, and (5) research for use in litigation.

Financial information reported on the annual FERC Form 6 and quarterly FERC Form 6-Q provides FERC, as well as customers, investors and others, an important tool to help identify emerging trends and issues affecting jurisdictional entities within the energy industry. It also provides timely disclosures of the impacts that new accounting standards, or changes in existing standards, have on jurisdictional entities, as well as the economic effects of significant transactions, events, and circumstances. The reporting of this information by jurisdictional entities assists the Commission in its analysis of profitability, efficiency, risk and in its overall monitoring.

Action: The Commission is requesting three-year extensions of the current expiration dates for the FERC-6 and FERC-6Q, with no change to the reporting requirements.

Burden Statement: The estimated annual public reporting burdens and the associated public costs follow.1 2

FERC Data Collection | Projected number of respondents | Number of annual responses per respondent | Projected average burden hours per response | Total annual burden hours ¹
| (1) | (2) | (3) | (1) × (2) × (3)
FERC-6 (Complete form) ² | 142 | 1 | 186 | 26,412
FERC-6 (Pages 1, 301, and 700 only) ² | 1 | 1 | 15 | 15
FERC-6 (Pages 1 and 700 only) ² | 23 | 1 | 10 | 230
FERC-6Q | 142 | 3 | 150 | 63,900

The total annual cost to respondents 1 2 3 is estimated as follows.

¹ These figures may not be exact, due to rounding and/or truncating.

² Order 620 in Docket No. RM99-10 (issued 12/13/2000, available at http://elibrary.ferc.gov/idmws/common/opennat.asp?fileID=8370177) established filing thresholds. The filing thresholds for filing all or part of the FERC-6 are based on the filer's annual jurisdictional operating revenues, for each of the three previous calendar years:

• File complete Form 6: Revenues $500,000 or more.

• File only Pages 1, 301, and 700: Revenues more than $350,000 but less than $500,000.

• File only Pages 1 and 700: Revenues of $350,000 or less.

See the instructions at http://www.ferc.gov/docs-filing/forms/form-6/form-6.pdf for more information.

The estimated annual totals for all filers completing all or part of the FERC-6 are: 166 filers and 26,657 hours, for a cost of $1,767,092.

³ Using 2,080 hours/year, the estimated cost for 1 full-time employee is $137,874/year. The estimated hourly cost is $66.29 (or $137,874/2,080).

FERC Data Collection | Total annual burden hours | Estimated hourly cost ³ ($) | Estimated total annual cost to respondents ($) ¹
| (1) | (2) | (2) × (1)
FERC-6 (Complete form) ² | 26,412 | $66.29 | $1,750,851
FERC-6 (Pages 1, 301, and 700 only) ² | 15 | 66.29 | 994
FERC-6 (Pages 1 and 700 only) ² | 230 | 66.29 | 15,247
FERC-6Q | 63,900 | 66.29 | 4,235,931

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2010-1977 Filed 1-29-10; 8:45 am]

BILLING CODE 6717-01-P